DEPARTMENT OF TRANSPORTATION

Maritime Administration

U.S. Merchant Marine Academy Advisory Council; Public Meeting

AGENCY: Maritime Administration, DOT.

ACTION: Notice of public meeting.

SUMMARY: The U.S. Department of Transportation, Maritime Administration (MARAD) announces a public meeting of the U.S. Merchant Marine Academy (USMMA) Advisory Council (Council).

DATES: The public meeting will be held on Thursday, November 16, 2023, from 9 a.m. until 12 p.m. Requests to attend the meeting must be received no later than 5 p.m. EDT on Wednesday, November 8, 2023, to facilitate entry. Requests to submit written materials to be reviewed during the meeting must be received no later than November 3, 2023. Requests for accommodations for a disability must be received by November 10, 2023.

ADDRESSES: The public meeting will be held in-person at the USMMA. Meeting access information will be available no later than November 13, 2023. Information on who the Council members are can be found in MARAD's press release: https://www.maritime.dot.gov/newsroom/secretary-buttigieg-appoints-members-us-merchant-marine-academy-advisory-council.

FOR FURTHER INFORMATION CONTACT: The Council's Designated Federal Officer and Point of Contact, Will Sheehan, 202-366-4105 or USMMAAdvisoryCouncil@dot.gov.

SUPPLEMENTARY INFORMATION:

I. Background

The Council is established pursuant to 46 U.S.C. 51323. The Council operates in accordance with the provisions of the Federal Advisory Committee Act (FACA), as amended, 5 U.S.C. app. 2.

The objective and scope of the Council is to provide independent advice and recommendations to the Secretary of Transportation (Secretary) on matters relating to the USMMA including in the areas of curriculum development and training programs; diversity, equity, and inclusion; sexual assault prevention and response; infrastructure maintenance and redevelopment; midshipmen health and welfare; governance and administrative policies; and other matters.

II. Agenda

The agenda will be as follows:

1. Welcome, opening remarks, and introductions

2. Academy updates

3. Public comment

4. Administrative items

III. Public Participation

This meeting is open to the public and will be held in-person at the USMMA. MARAD is committed to providing equal access to this meeting for all participants. If you need alternative formats or services because of a disability, such as sign language, interpretation, or other ancillary aids, please contact the person listed in the FOR FURTHER INFORMATION CONTACT section. Seating will be limited and available on a first come first serve basis.

Any member of the public is permitted to file a written statement with the Council. Written statements should be sent to the Designated Federal Officer listed in the FOR FURTHER INFORMATION CONTACT section no later than November 3, 2023.

Only written statements will be considered by the Council; no member of the public will be allowed to present questions or speak during the meeting unless requested to do so by a member of the Council.

(Authority: 46 U.S.C. 51323; 5 U.S.C. 552b; 5 U.S.C. App. 2; 41 CFR parts 102-3.140 through 102-3.165.)

By Order of the Maritime Administrator.
T. Mitchell Hudson, Jr.,
Secretary, Maritime Administration.

[FR Doc. 2023-23368 Filed 10-20-23; 8:45 am]

BILLING CODE 4910-81-P